ENVIRONMENTAL PROTECTION AGENCY

40 CFR Part 52

[EPA-R06-OAR-2020-0164; FRL-12951-01-R6]

Air Plan Approval; Texas; Reasonably Available Control Technology in the Dallas-Fort Worth Ozone Nonattainment Area

AGENCY: Environmental Protection Agency (EPA).

ACTION: Proposed rule.

SUMMARY: Pursuant to the Federal Clean Air Act (CAA or the Act), the Environmental Protection Agency (EPA) is proposing to approve the May 12, 2020, and May 13, 2020, revisions to the Texas State Implementation Plan (SIP) as satisfying the Serious classification Volatile Organic Compounds (VOC) Reasonably Available Control Technology (RACT) requirement for the Dallas-Fort Worth (DFW) 2008 8-hour ozone National Air Quality Ambient Air Quality Standards (NAAQS) nonattainment area. The DFW area, designated as Serious for the 2008 8-hour ozone NAAQS, consists of Collin, Dallas, Denton, Ellis, Johnson, Kaufman, Parker, Rockwall, Tarrant, and Wise Counties. Specifically, we are proposing to approve the revisions to 30 Texas Administrative Code (TAC) Chapter 115 to implement the major source Reasonably Available Control Technology (RACT) requirement for VOC as addressed in the VOC RACT analysis and negative declaration included with the Serious area Attainment Demonstration (AD) SIP revision. The Nitrogen Oxide (NOX) portion of the RACT analysis in the May 13, 2020, revisions will be addressed in a separate action.

DATES: Written comments must be received on or before October 6, 2025.

ADDRESSES: Submit your comments, identified by Docket No. EPA-R06-OAR-2020-0164, at https://www.regulations.gov or via email to shahin.emad@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact Emad Shahin, (214) 665-6717, shahin.emad@epa.gov. For the full EPA public comment policy, information about CBI or multimedia submissions, and general guidance on making effective comments, please visit https://www.epa.gov/dockets/commenting-epa-dockets.

Docket: The index to the docket for this action is available electronically at www.regulations.gov. While all documents in the docket are listed in the index, some information may not be publicly available due to docket file size restrictions or content (e.g., CBI).

FOR FURTHER INFORMATION CONTACT: Emad Shahin, 214-665-6717, Emad Shahin@epa.gov. We encourage the public to submit comments via https://www.regulations.gov, as there may be a delay in processing mail and courier or hand deliveries may not be accepted. Please call or email the contact listed above if you need alternative access to material indexed but not provided in the docket.

SUPPLEMENTARY INFORMATION: Throughout this document wherever “we,” “us,” or “our” is used, we mean the EPA.

I. Background

VOCs contribute to the production of ground-level ozone, or smog, which harms human health and the environment. Section 182(b)(2) of the CAA requires that SIPs for ozone nonattainment areas classified as Moderate or above include implementation of RACT for any source covered by a Control Techniques Guidelines (CTG) document and also for any major source of VOC not covered by a CTG. It is worth noting that for some CTG categories, RACT is applicable to minor or area sources. The EPA has defined RACT as the lowest emissions limitation that a particular source is capable of meeting by the application of control technology that is reasonably available, considering technological and economic feasibility. See 44 FR 53761 (September 17, 1979).

A Moderate, Serious, or Severe area major stationary source is one that emits, or has the potential to emit, 100, 50, or 25 tons per year (tpy) or more of VOCs, respectively. CAA sections 182(b) through (d). The EPA provides states with guidance concerning what types of controls could constitute RACT for a given category of sources through the issuance of CTG and Alternative Control Techniques (ACT) documents.¹

¹ See https://www.epa.gov/ground-level-ozone-pollution/control-techniques-guidelines-and-alternative-control-techniques for a listing of EPA-issued CTGs and ACTs.

On March 27, 2008, the EPA revised the primary and secondary ozone NAAQS to a level of 0.075 parts per million (ppm) (75 ppb).² On October 26, 2015 (80 FR 65292), EPA promulgated another revised ozone NAAQS, but the 2008 NAAQS remains in effect. This notice concerns the VOC RACT requirements under the 2008 8-hour ozone NAAQS.

² Although the level of ozone NAAQS are specified in the units of ppm (i.e., 0.075 ppm), ozone concentrations are described using the units of parts per billion (ppb) in this action for consistency with the common convention for information discussions. In ppb, 0.075 ppm is equivalent to 75.

Promulgation of a new or revised NAAQS triggers a requirement for the EPA to designate areas as nonattainment, attainment, or unclassifiable, and to classify the nonattainment areas at the time of designation. CAA section 181(a). Nonattainment areas are classified according to the severity of their ozone air quality problems as Marginal, Moderate, Serious, Severe, or Extreme determined by each area's design value.³

³ The air quality design value for the 8-hour ozone NAAQS is the three-year average of the annual fourth highest daily maximum 8-hour average ozone concentration. See 40 CFR part 50, appendix I.

On May 21, 2012, the EPA published a rule establishing initial area designations and classifications for most areas of the country, including DFW, with respect to the 2008 primary and secondary 8-hour ozone NAAQS. 77 FR 30088. On the same day, EPA issued a separate rule that established air quality thresholds for each nonattainment classification for the 2008 NAAQS and set attainment deadlines for each classification. 77 FR 30160 (May 21, 2012).

Originally the DFW area was classified as Moderate (77 FR 30088, May 21, 2012). Based on the Moderate classification of the DFW area for the 2008 ozone NAAQS, under section 182(b) of the CAA, a major stationary source in the area is one that emits, or has the potential to emit, 100 tpy or more of VOCs. However, on August 23, 2019 (84 FR 44238), EPA found the DFW area did not attain by the 2008 ozone Moderate area attainment date. The DFW area was reclassified to Serious nonattainment with an attainment date of July 20, 2021. Under the Serious classification, the major source threshold is 50 tpy or more of VOC. In the action reclassifying DFW to Serious, EPA set a deadline of August 3, 2021, for Texas to provide a demonstration that RACT was in place as necessary to meet the Serious area requirements.

On May 12, 2020, Texas submitted to EPA a SIP revision to 30 TAC Chapter 115 to implement major source RACT requirements for VOC associated with the Serious classification for the 2008 ozone NAAQS for the DFW area. On May 13, 2020, Texas submitted a SIP revision that includes an analysis that Serious level RACT for sources of VOC emissions in the DFW area is met for the 2008 8-hr ozone NAAQS. In its RACT analysis, to identify major stationary sources of VOC, Texas reviewed the TCEQ 2017 point source emissions inventory, the TCEQ New Source Review, and CAA Title V databases to locate potential sources.⁴ All sources in the Title V database that were listed as a major source for VOC emissions and have the potential to emit 50 tons per year or more are included in the RACT analysis. TCEQ noted that they reviewed sources that reported actual emissions as low as 25 tpy of VOC to account for the difference between actual and potential emissions. TCEQ also noted that sites from the emissions inventory database with emissions equal to or greater than a threshold of 25 tpy or more of VOC that were not identified in the Title V database and could not be verified as minor sources by other means are also included in the RACT analysis.

⁴ See Appendix F, Reasonably Available Control Technology Analysis, of the state's SIP submittal, available at https://www.tceq.texas.gov/assets/public/implementation/air/sip/dfw/dfw_ad_sip_2019/DFWAD_19078SIP_Appendix_F_Final.pdf.

II. Evaluation

States should refer to existing CTG and ACT documents, all relevant information received during the public comment period, and any other information that is current at the time of development of the SIP to determine if RACT is being applied. See 80 FR 12264, 12278 (March 6, 2015). States may conclude, in some cases, that sources already addressed by RACT determinations to meet the 1-hour and/or the 1997 8-hour ozone NAAQS do not need to implement additional controls to meet the 2008 ozone NAAQS RACT requirement. Id. at 11278-9.

The EPA has previously determined that Chapter 115 VOC regulations for the DFW area have met RACT for requirements associated with past ozone NAAQS for all CTG and non-CTG major sources in the DFW area—including the 1-hour and 1997 8-hour ozone NAAQS ⁵ and later, the 2008 Moderate NAAQS area classification ⁶ and incorporated them into the Texas SIP. Texas' May 13, 2020, submittal demonstrates how the Chapter 115 rules also satisfy RACT requirements for CTG and non-CTG VOC major sources for the 2008 8-hour Serious classification for the entire DFW area.⁷

⁵ 58 FR, 44124, September 24, 1992; 59 FR 60709, November 28, 1994; 60 FR 12438, March 7, 1995; 61 FR 55894, October 30, 1996; 64 FR 3841, January 26, 1999; 64 FR 12759, March 15, 1999; 65 FR 79745, December 26, 2000; 66 FR 54688, October 30, 2001; 74 FR 1903, January 14, 2009; 79 FR 45105, August 4, 2014; and 80 FR 16291, March 27, 2015.

⁶ 82 FR 60546 (December 21, 2017); 84 FR 5601 (February 22, 2019).

⁷ See EPA-R06-OAR-2005-TX-0018, EPA-R06-OAR-2012-0100 and EPA-R06-OAR-2017-0055, available through the Regulations.gov website at: https://www.regulations.gov/.

The EPA performed a VOC RACT analysis which compares Texas' CTG and non-CTG categorical RACT rules to other relevant state rules. This analysis may be found in the technical support document (TSD) for this proposed action, which is available in the public docket for this action. The analysis in the TSD also includes a search and comparison of EPA's RACT/BACT/LAER Clearinghouse (RBLC),⁸ New Source Performance Standards, Maximum Achievable Control Technology, and National Emissions Standards for Hazardous Air Pollutants, where applicable. The EPA has not identified any new control technologies that are reasonably available considering technological and economic feasibility for these sources. Based upon our findings, EPA proposes to determine that Texas Chapter 115 rules, as revised in the May 12, 2020, submittal, continue to represent RACT.

⁸ See https://www.epa.gov/catc/ractbactlaer-clearinghouse-rblc-basic-information.

We are proposing to find that the Chapter 115 rules, which the State amended in its May 12, 2020, submittal to apply the 50 tpy threshold to Wise County, meet RACT for the 2008 8-hour ozone NAAQS in the ten county DFW Moderate nonattainment area. We have determined this is appropriate because the analysis in the TSD shows that the Texas rules are representative of the control technologies reasonably available at the time the SIP submission was developed. The Chapter 115 rules provide appropriate VOC emissions controls that are equivalent to control options cited in the CTG documents, and any non-CTG major sources are appropriately controlled. In addition, EPA conducted a state comparison analysis, which can be found in the TSD, where it compared Texas' RACT rules to other relevant state rules. As explained further in the TSD, EPA found Texas' rules to be consistent with similar rules adopted by other states. The EPA has not identified any new control technologies that are reasonably available considering technological and economic feasibility for the Texas sources. As a result of EPA's analysis, EPA is proposing to determine that the Texas VOC RACT regulations are still representative of RACT for the DFW nonattainment area for purposes of the Serious classification for the 2008 ozone standard.

VOC RACT Negative Declarations

States are not required to adopt RACT limits for categories of sources covered by a CTG for which no sources exist in a nonattainment area and can submit a negative declaration to that effect. The negative declaration should state that there are no CTG-covered sources in the area and provide an accompanying analysis to support that conclusion. Texas reviewed its emission inventory and determined that its previous negative declarations for fiberglass boat manufacturing materials, surface coating for flat wood paneling, letterpress printing, shipbuilding and ship repair surface coating operations, vegetable oil manufacturing, and rubber tire manufacturing categories are still applicable.⁹ Texas also submitted negative declarations for graphic arts—rotogravure and flexography, flexible package printing, refinery vacuum producing systems and process unit turnarounds, wood furniture manufacturing, and manufacture of synthesized pharmaceutical products for Wise County only. Negative declarations are discussed further in the TSD. The EPA proposes to approve these negative declarations.

⁹ Submitted as part of its DFW VOC RACT SIP for the 1997 8-hour ozone NAAQS. See 79 FR 21144 (April 15, 2014).

In Texas' May 13, 2020 submission, Table F-3 of Appendix F, “State Rules Addressing VOC RACT Requirements in ACT Reference Documents” provides a listing of eighteen different categories of source types for which a VOC Alternate Control Technology document has been issued, the State's determination of how the technologies in the ACT have been addressed, and whether or not such a source is currently located in the DFW area.

We propose that RACT is in place for affected sources of VOC emissions and that the existing controls requirements continue to represent RACT for the DFW area.

III. Proposed Action

The EPA is proposing to determine that the SIP revisions submitted by TCEQ on May 13, 2020, fulfill the Serious VOC RACT requirements for the DFW nonattainment area for the 2008 ozone NAAQS. The EPA is also proposing to approve the concurrent 30 TAC Chapter 115 rule revisions, specifically revisions to sections 115.10, 115.111, 115.112, 115.119, 115.421, submitted by TCEQ on May 12, 2020, and the negative declarations made for the CTGs listed in section II of this document. The Texas regulations in 30 TAC Chapter 115 implement major source RACT requirements for VOC associated with the Serious classification for the 2008 ozone NAAQS. With that approval, EPA would incorporate the approved revisions by reference into the SIP.

IV. Incorporation by Reference

In this action, the EPA is proposing to include in a final rule regulatory text that includes incorporation by reference. In accordance with the requirements of 1 CFR 51.5, the EPA is proposing to incorporate by reference revisions to the Texas regulations as described in sections II and III of this preamble. The EPA has made, and will continue to make, these documents generally available electronically through www.regulations.gov and in hard copy at the EPA Region 6 office.

V. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

List of Subjects in 40 CFR Part 52

Environmental protection, Air pollution control, Incorporation by reference, Nitrogen dioxide, Ozone, Reporting and recordkeeping requirements, Volatile organic compounds.

(Authority: 42 U.S.C. 7401 et seq.)

Dated: August 26, 2025.
Walter Mason,
Regional Administrator, Region 6.

[FR Doc. 2025-17081 Filed 9-4-25; 8:45 am]

BILLING CODE 6560-50-P